DEPARTMENT OF LABOR

Employee Benefits Security Administration

Advisory Council on Employee Welfare and Pension Benefit Plans; Notice of Meeting

Pursuant to the authority contained in Section 512 of the Employee Retirement Income Security Act of 1974 (ERISA), 29 U.S.C. 1142, the 143rd open meeting of the full Advisory Council on Employee Welfare and Pension Benefit Plans will be held on September 10, 2008. In addition, the Working Groups assigned by the Advisory Council to study the issues of (1) Phased retirement, (2), spend-down of retirement assets, and (3) hard to value assets/target date funds, will hold public meetings on September 9, 10, and 11. All of the meetings will take place in Room S3215 A-B, U.S. Department of Labor, 200 Constitution Avenue NW., Washington, DC 20210.

The purpose of the open meeting of the full Council, which will run from 8:30 a.m. to approximately 9 a.m., is for members to be updated on activities of the Employee Benefits Security Administration and for chairs of this year's Working Groups to provide progress reports on their individual study topics.

The purpose of the open Working Group meetings, which each day will run from 9 a.m. to approximately 5 p.m., with a one hour break for lunch, is for Working Group members to hear testimony from invited witnesses and for discussions of possible recommendations based on the testimony. The focus of the Working Group meeting on September 9 will be on phased retirement, including issues facing employers who wish to create phased retirement plans, as well as the issues facing employees who wish to take part in phased retirement programs, and whether there are any legal impediments that discourage American workers from continuing to work in their retirement years. The focus of the Working Group meeting on September 10 will be on spending down retirement assets, including the issues and barriers facing plan fiduciaries, plan sponsors, and plan participants as they attempt to evaluate approaches that guarantee periodic income levels at retirement. The focus of the Working Group meeting on September 11 will be on hard to value assets and target date funds, including potential risks and the roles of fiduciaries, trustees, investment managers, accountants/auditors and participants when employee benefit plans invest in hard to value assets, a review of regulatory policy involving assets for which there is not a generally recognized market, and challenges and risks associated with plans' use of target date funds.

Organizations or members of the public wishing to submit a written statement for any of the meetings may do so by submitting 30 copies on or before September 2, 2008 to Larry Good, Executive Secretary, ERISA Advisory Council, U.S. Department of Labor, Suite N-5623, 200 Constitution Avenue, NW., Washington, DC 20210. Statements also may be submitted electronically to good.larry@dol.gov. Statements received on or before September 2 will be included in the record of the relevant meeting. Oral presentations will be limited to 10 minutes, time permitting, but an extended statement may be submitted for the record. Individuals with disabilities, who need special accommodations, should contact Larry Good by September 2 at the address indicated. All individuals who plan to attend the meeting should contact Larry Good by September 8 to expedite building access.

Signed at Washington, DC, this 14th day of August, 2008.
Bradford P. Campbell,
Assistant Secretary, Employee Benefits Security Administration.

[FR Doc. E8-19233 Filed 8-19-08; 8:45 am]

BILLING CODE 4510-29-P